OFFICE OF THE UNITED STATES TRADE REPRESENTATIVE

[Docket Number USTR-2020-0011]

Request for Comments on Negotiating Objectives for a United States-Republic of Kenya Trade Agreement

AGENCY: Office of the United States Trade Representative.

ACTION: Request for comments and notice of public hearing.

SUMMARY: On March 17, 2020, the U.S Trade Representative notified Congress of the Administration's intent to enter into negotiations with the Republic of Kenya (Kenya) for a U.S.-Kenya trade agreement. The Office of the United States Trade Representative (USTR) is seeking public comments on a proposed U.S.-Kenya trade agreement, including U.S. interests and priorities, in order to develop U.S. negotiating positions. You can provide comments in writing and orally at a public hearing. The Administration's aim in negotiations with Kenya is to address both tariff and non-tariff barriers and to achieve free, fair, and reciprocal trade.

DATES:

April 15, 2020: Deadline for the submission of written comments and for written notification of your intent to testify, as well as a summary of your testimony at the public hearing.

April 28, 2020: The Trade Policy Staff Committee (TPSC) will hold a public hearing beginning at 9:30 a.m., in Rooms 1 and 2, 1724 F Street NW, Washington, DC 20508.

ADDRESSES: You should submit notifications of intent to testify and written comment through the Federal eRulemaking Portal: https://www.regulations.gov (Regulations.gov). Follow the instructions for submissions in parts II and III below. For alternatives to on-line submissions, please contact Yvonne Jamison at (202) 395-3475 in advance of the deadline and before transmitting a comment.

FOR FURTHER INFORMATION CONTACT: For procedural questions concerning written comments, please contact Yvonne Jamison at (202) 395-3475. Direct all other questions to Alan Treat, Deputy Assistant U.S. Trade Representative for Africa, at (202) 395-9514.

SUPPLEMENTARY INFORMATION:

I. Background

The decision to launch negotiations for a U.S.-Kenya trade agreement is an important step to strengthen the U.S.-Kenya economic relationship and to achieve free, fair, and reciprocal trade. President Trump and President Kenyatta established the U.S.-Kenya Trade and Investment Working Group in August 2018 to explore ways to deepen economic ties between the United States and Kenya and lay the groundwork for a stronger future trade relationship.

On March 17, 2020, following consultations with relevant Congressional committees, the U.S. Trade Representative informed Congress that the President intends to commence negotiations with Kenya for a U.S.-Kenya trade agreement

II. Public Comment and Hearing

The TPSC invites interested parties to submit comments and/or oral testimony to assist USTR as it develops negotiating objectives and positions for the agreement, including with regard to objectives identified in section 102 of the Bipartisan Congressional Trade Priorities and Accountability Act of 2015 (19 U.S.C. 4201). In particular, the TPSC invites interested parties to comment on issues that USTR should address in the negotiations including, but not limited to, the following:

a. General and product-specific negotiating objectives for the proposed agreement.

b. Relevant barriers to trade in goods and services between the United States and Kenya.

c. Economic costs and benefits to U.S. producers and consumers of removal or reduction of tariffs and non-tariff barriers on articles traded with Kenya.

d. Treatment of specific goods (classified under the Harmonized Tariff Schedule of the United States or HTSUS) under the proposed agreement, including comments on the following:

i. Product-specific import or export interests or barriers.

ii. Experience with particular measures that USTR should address in the negotiations.

iii. Ways to address export priorities and import sensitivities in the context of the proposed agreement.

e. Fees, charges, and taxes affecting trade in goods and services between the United States and Kenya.

f. Customs and trade facilitation issues, including those related to pre-shipment inspection.

g. Sanitary and phytosanitary measures and technical barriers to trade.

h. Transparency issues.

i. Other measures or practices, including those of third-country entities, which undermine fair market opportunities for U.S. businesses, workers, farmers, and ranchers.

USTR must receive written comments no later than April 15, 2020. USTR requests that small businesses (generally defined by the Small Business Administration as firms with fewer than 500 employees) or organizations representing small business members, which submit comments to self-identify as such, so that we may be aware of issues of particular interest to small businesses.

The TPSC will hold a hearing on Tuesday, April 28, 2020 in Rooms 1 and 2, 1724 F Street NW, Washington, DC 20508. If necessary, the hearing will continue on the next business day. Persons wishing to testify at the hearing must provide written notification of their intention by April 15, 2020. You must make the intent to testify notification in the `type comment' field under docket number USTR-2020-0011 on Regulations.gov and should include the name, address, telephone number, and email address of the person presenting the testimony. You should attach a summary of the testimony by using the `upload file' field. The file name should include who will be presenting the testimony. Remarks at the hearing should be limited to no more than five minutes to allow for possible questions from the TPSC.

III. Requirements for Submissions

In order to ensure the timely receipt and consideration of comments, USTR strongly encourages commenters to make on-line submissions, using Regulations.gov. Persons submitting a notification of intent to testify and/or written comments must do so in English and must identify (on the first page of the submission) the “U.S.-Kenya Trade Agreement.”

To submit comments via Regulations.gov, enter docket number USTR-2020-0011 on the home page and click `search.' The site will provide a search-results page listing all documents associated with this docket. Find a reference to this notice and click on the link entitled `comment now!' For further information on using Regulations.gov, please consult the resources provided on the website by clicking on `How to Use This Site' on the left side of the home page.

Regulations.gov allows users to provide comments by filling in a `type comment' field, or by attaching a document using an `upload file' field. USTR prefers that you provide comments in an attached document. If you attach a document, it is sufficient to type `see attached' in the `type comment' field. USTR prefers submissions in Microsoft Word (.doc) or Adobe Acrobat (.pdf). If the submission is in an application other than those two, please indicate the name of the application in the `type comment' field.

For any comments submitted electronically that contain business confidential information (BCI), the file name of the business confidential version should begin with the characters `BCI.' Clearly mark any page containing BCI `BUSINESS CONFIDENTIAL' on the top of that page. Filers of submissions containing BCI also must submit a public version of their comments. The file name of the public version should begin with the character `P.' Follow the `BCI' and `P' with the name of the person or entity submitting the comments. Filers submitting comments containing no BCI should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through Regulations.gov. If alternative arrangements are essential, you must make them before transmitting a comment and in advance of the applicable deadline, with Yvonne Jamison at (202) 395-3475.

USTR will place comments in the docket for public inspection, except BCI. General information concerning USTR is available at www.ustr.gov.

Edward Gresser,
Chair of the Trade Policy Staff Committee, Office of the United States Trade Representative.

[FR Doc. 2020-06041 Filed 3-20-20; 8:45 am]

BILLING CODE 3290-F0-P